FEDERAL COMMUNICATIONS COMMISISON

National Advisory Committee

AGENCY: Federal Communications Commission.

ACTION: Notice.

SUMMARY: In accordance with the Federal Advisory Committee Act, Public Law 92-463, as amended, this is a notice that the Charter for the National Advisory Committee (NAC) for the Emergency Alert System (EAS) was renewed with a new charter termination date of July 25, 2002.

FOR FURTHER INFORMATION CONTACT: Bonnie Gay, 445 12th Street, SW, Washington, DC 20554; telephone (202) 418-1228.

SUPPLEMENTARY INFORMATION: The Committee advises the FCC on all matters concerning the EAS, including, but not limited to, emergency alerting policies, technologies, plans, regulations, and procedures at the national, state and local levels. The NAC also recommends and develops training and education regarding the EAS and coordinates with state and local officials to assist in establishing and maintaining effective emergency alerting programs.

The Committee consists of volunteer government and industry personnel selected by the FCC. Members include representatives from broadcasting, cable, satellite, MMDS, other technologies, government agencies involved in emergency communications, State Emergency Communications Committees and special audiences such as hearing impaired.

Federal Communications Commission.
Magalie Roman Salas,
Secretary,

[FR Doc. 00-25277 Filed 9-29-00; 8:45 am]

BILLING CODE 6712-01-U